NUCLEAR REGULATORY COMMISSION

Sunshine Act Meeting; Notice

Date: Weeks of December 30, 2002, January 6, 13, 20, 27, February 3, 2003.

Place: Commissioners' Conference Room, 11555 Rockville Pike, Rockville, Maryland.

Status: Public and closed.

Matters to be Considered:

Week of December 30, 2002—Tentative

There are no meetings scheduled for the week of December 30, 2002.

Week of January 6, 2003—Tentative

There are no meetings scheduled for the week of January 6, 2003.

Week of January 13, 2003—Tentative

Tuesday, January 14, 2003.

10 a.m.—Discussion of security issued (closed—ex. 1).

2 p.m.—Briefing on NRC lessons learned: Davis-Besse RVH Degradation (public meeting) (contact: Stacey Rosenberg, 301-415-1733).

This meeting will be webcast live at the Web address— http://nrc.gov.

Week of January 20, 2003—Tentative

Thursday, January 23, 2003.

2 p.m.—Briefing on status of NMSS programs, performance, and plans—materials safety (public meeting) (Contact: Claudia Seelig, 301-415-7243).

Week of January 27, 2003—Tentative

There are no meetings scheduled for the week of January 27, 2003.

Week of February 3, 2003—Tentative

Tuesday, February 4.

10 a.m.—Briefing on status of OCIO programs, performance, and plans (public meeting) (contact: Jackie Silber, 301-415-7330).

This meeting will be webcast live at the Web address— http://nrc.gov.

The schedule for Commission meetings is subject to change on short notice. To verify the status of meetings call (recording)—(301) 415-1292. Contact person for more information: R. Michelle Schroll (301) 415-1662.

The NRC Commission Meeting Schedule can be found on the Internet at:

http://www.nrc.gov/what-we-do/policy-making/schedule.html.

This notice is distributed by mail to several hundred subscribers; if you no longer wish to receive it, or would like to be added to the distribution, please contact the Office of the Secretary, Washington, DC 20555 (301-415-1969).

In addition, distribution of this meeting notice over the Internet system is available. If you are interested in receiving this Commission meeting schedule electronically, please send an electronic message to dkw@nrc.gov.

Dated: December 26, 2002.
R. Michelle Schroll,
Acting Technical Coordinator, Office of the Secretary.

[FR Doc. 02-33114 Filed 12-27-02; 12:37 pm]

BILLING CODE 7590-01-M